NUCLEAR REGULATORY COMMISSION

[Docket No. NRC-2013-0248]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on November 25, 2013 (78 FR 70353).

1. Type of submission, new, revision, or extension: Extension.

2. The title of the information collection: 10 CFR Part 39, “Licenses and Radiation Safety Requirements for Well Logging.”

3. Current OMB approval number: 3150-0130.

4. The form number if applicable: Not applicable.

5. How often the collection is required: Applications for new licenses and amendments may be submitted at any time. Applications for renewals are submitted every 10 years. Reports are submitted as events occur.

6. Who will be required or asked to report: Applicants for and holders of specific licenses authorizing the use of licensed radioactive materials for well logging.

7. An estimate of the number of annual responses: 2,393 (326 NRC licensees' responses + 2,067 Agreement States licensees' responses).

8. The estimated number of annual respondents: 235 (32 NRC licensees + 203 Agreement States licensees).

9. An estimate of the total number of hours needed annually to complete the requirement or request: 50,980 hours (6,943 NRC licensees' hours + 44,037 Agreement States licensees' hours). The NRC licensees' total burden is 6,943 hours (103 reporting and 6,840 recordkeeping hours). The Agreement States licensees' total burden is 44,037 hours (644 reporting + 43,393 recordkeeping hours).

10. Abstract: Part 39 of Title 10 of the Code of Federal Regulations (10 CFR), establishes radiation safety requirements for the use of radioactive materials in well logging operations. Information in the applications, reports, and records is used by the NRC staff to ensure that the health and safety of the public is protected and that the licensees' possession and use of the radioactive sources and byproduct materials is in compliance with the license and the regulatory requirements.

The public may examine and have copied for a fee publicly-available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by March 21, 2014. Comments received after this date will be considered if it is practical to do so, but assurance of consideration cannot be given to comments received after this date.

Danielle Y. Jones, Desk Officer, Office of Information and Regulatory Affairs (3150-0130), NEOB-10202, Office of Management and Budget, Washington, DC 20503.

Comments can also be emailed to Danielle_Y_Jones@omb.eop.gov or submitted by telephone at 202-395-1741.

The Acting NRC Clearance Officer is Kristen Benney, telephone: 301-415-6355.

Dated at Rockville, Maryland, this 12th day of February 2014.
For the Nuclear Regulatory Commission.
Brenda Miles,
Acting NRC Clearance Officer, Office of Information Services.

[FR Doc. 2014-03537 Filed 2-18-14; 8:45 am]

BILLING CODE 7590-01-P